ENVIRONMENTAL PROTECTION AGENCY

40 CFR Part 52

[EPA-R05-OAR-2021-0963; FRL-12589-03-R5]

Air Plan Approval; Indiana; Regional Haze Plan for the Second Implementation Period; Extension of Comment Period

AGENCY: Environmental Protection Agency (EPA).

ACTION: Proposed rule; extension of public comment period.

SUMMARY: The Environmental Protection Agency (EPA) is extending the comment period for a proposed rule published on June 18, 2025. The current comment period for the proposed rule was scheduled to close on July 18, 2025. EPA is extending the comment period for the proposed action by 30 days to August 18, 2025.

DATES: The comment period for the proposed rule published in the Federal Register on June 18, 2025, at 90 FR 25944 is extended. Comments now must be received on or before August 18, 2025.

ADDRESSES: Submit your comments, identified by Docket ID No. EPA-R05-OAR-2021-0963 at https://www.regulations.gov, or via email to langman.michael@epa.gov. Additional instructions to comment can be found in the notice of proposed rulemaking published June 18,2025 (90 FR 25944).

FOR FURTHER INFORMATION CONTACT: Charles Hatten, Air & Radiation Division (AR-18J), U.S. Environmental Protection Agency, Region 5, 77 West Jackson Boulevard, Chicago, Illinois 60604, (312) 886-6031, hatten.charles@epa.gov.

SUPPLEMENTARY INFORMATION: On June 18, 2025, EPA proposed to approve the Indiana regional haze state implementation plan (SIP) revision submitted by the Indiana Department of Environmental Management on December 29, 2021, as satisfying applicable requirements under the Clean Air Act and EPA's Regional Haze Rule for the program's second implementation period. EPA is extending the comment period for an additional 30 days.

Dated: July 1, 2025.
Anne Vogel,
Regional Administrator, Region 5.

[FR Doc. 2025-13325 Filed 7-15-25; 8:45 am]

BILLING CODE 6560-50-P